ENVIRONMENTAL PROTECTION AGENCY

[ER-FRL-6647-3]

Environmental Impact Statements and Regulations; Availability of EPA Comments

Availability of EPA comments prepared pursuant to the Environmental Review

Process (ERP), under section 309 of the Clean Air Act and section 102(2)(c) of the National Environmental Policy Act as amended. Requests for copies of EPA comments can be directed to the Office of Federal Activities at (202) 564-7167.

An explanation of the ratings assigned to draft environmental impact statements (EISs) was published in FR dated April 04, 2003 (68 FR 16511).

Draft EISs

ERP No. D-AFS-J65396-WY Rating EC2, Wyoming Range Allotment Complex, To Determine Whether or not to Allow Domestic Sheep Grazing, Bridger-Teton National Forest, Big Piney, Greys River and Jackson Ranger Districts, Sublette, Lincoln and Teton Counties, WY.

Summary: EPA expressed environmental concerns regarding adverse impacts to water quality and aquatic habitat from mass erosion from grazing. The final EIS should include information on sediment loading, ground cover, native trout populations, percent fines in stream beds, mass erosion sites and gullies.

ERP No. D-AFS-K65263-CA Rating EC2, Meteor Project, Proposal for Harvesting Timber and Conducting Associated Activities on 744 Acres, Implementation, Klamath National Forest, Salmon River Ranger District, Siskiyou County, CA.

Summary: EPA expressed environmental concerns regarding potential impacts to air and water quality. The final EIS should include specific information on project impacts related to air quality standards, types of dewatering methods and impacts to the aquatic habitat and consideration of reasonably foreseeable actions in the cumulative impacts analysis.

ERP No. D-NPS-F65043-MI Rating LO, Pictured Rocks National Lakeshore, General Management Plan and Wilderness Study, Implementation, Lake Superior, Munising and Grand Marais, Alger County, MI.

Summary: EPA expressed lack of objections with the preferred alternative.

Final EISs

ERP No. F-AFS-F65036-WI Hoffman-Sailor West Project, Timber Harvest, Regeneration Activities, Connected Road Construction and Decommissioning, Chequamegon-Nicolet National Forest, Medford/Park Falls Ranger District, Price County, WI.

Summary: EPA's concerns with beavers and forest tent caterpillars were resolved in the FEIS. However, EPA continues to have environmental concerns regarding the impact of white-tailed deer on forest ecosystem health. EPA suggested additional monitoring focusing on the impacts of deer browsing potentially sensitive vegetation in the project area.

ERP No. F-AFS-F65042-WI Sunken Moose Project, Proposal to Restore and/or Maintain the Red and White Pine Communities, Washurn Ranger District, Chequamegon-Nicolet Forest, Bayfield County, WI.

Summary: EPA continues to believe that the cumulative impacts analysis should consider future thinning projects. EPA believes that a comparative impacts analysis regarding Non-Native invasive Species among the different alternatives would be helpful in determining future Best Management Practices and should be considered in other similar projects.

ERP No. F-AFS-K61157-CA Interface Recreation Trails Project, Recreation Route System Development, Implementation, Stanislaus National Forest, Calaveras Ranger District, Calaveras County, CA.

Summary: No formal comment letter was sent to the preparing agency.

ERP No. F-AFS-K65252-CA Combined Array for Research in Millimeter-wave Astronomy (CARMA) Project, Construction, Reconstruction and Operation of 23 Antennas at the Juniper Flat Site, Special-Use-Permit Issuance, Inyo Mountain, Inyo National Forest, Inyo County, CA.

Summary: No formal comment letter was sent to the preparing agency.

ERP No. F-AFS-K65258-CA Emigrant Wilderness Dams Project, Reconstruct, Repair, Maintain and Operate 12 Dams; Snow, Bigelow, Huckleberry, Emigrant Meadow, Middle Emigrant, Emigrant, Leighton, Long, Lower Buck, Y-Meadow and Bear, Stanislaus National Forest, Summer Ranger District, Tuolumne County, CA.

Summary: The Final EIS adequately addressed EPA's major concerns regarding the potential impacts to wilderness, air and water quality and wildlife.

ERP No. F-AFS-L65434-WA Crupina Integrated Weed Management Project, Control and Eradication of Crupina, Implementation, Okanogan and Wenatchee National Forests, Chelan Ranger District, Chelan County, WA.

Summary: No formal comment letter was sent to the preparing agency.

ERP No. F-BOP-K80042-CA Lompoc United States Penitentiary (UPS) Construction and Operation of a New High-Security Facility and Ancillary Structures on One of Three Sites located in the City of Lopmoc, Funding, Santa Barbara County, CA.

Summary: EPA's previous issues have been resolved, therefore, EPA has no objections to the action as proposed.

ERP No. F-NPS-K65365-AZ Navajo National Monument, General Management Plan and Development Concept Plan, Implementation, Navajo Counties, AZ.

Summary: EPA expressed a lack of objections to this project.

Dated: January 6, 2004.
Ken Mittelholtz,
Environmental Specialist, Office of Federal Activities.

[FR Doc. 04-456 Filed 1-8-04; 8:45 am]

BILLING CODE 6560-50-P